DEPARTMENT OF THE INTERIOR

National Park Service

[NPS-NER-ASIS-22489; PPNEASISS0, PPMPSPD1Z.YM0000]

Abbreviated Final Environmental Impact Statement for the Assateague Island National Seashore General Management Plan

AGENCY: National Park Service, Interior.

ACTION: Notice of availability.

SUMMARY: The National Park Service (NPS) announces the availability of the Abbreviated Final General Management Plan/Environmental Impact Statement (GMP/EIS) for Assateague Island National Seashore (seashore), Maryland and Virginia. The purpose of the plan is to provide a framework for management decision making that is consistent with the purposes for which the seashore was established by Congress as a unit of the national park system and that protects the seashore's fundamental and other important resources and values.

DATES: The NPS will issue a final decision on the Abbreviated Final GMP/EIS no earlier than 30 days from the date the Environmental Protection Agency publishes its Notice of Availability of the Abbreviated Final GMP/EIS in the Federal Register.

ADDRESSES: The Abbreviated Final GMP/EIS is available electronically at http://www.parkplanning.nps.gov/asis. A limited number of printed copies will be available upon request by contacting the Superintendent, Assateague Island National Seashore, 7206 National Seashore Lane, Berlin, MD 21811, 410-629-6080.

FOR FURTHER INFORMATION CONTACT: Deborah Darden, Assateague Island National Seashore, 410-629-6080, deborah_darden@nps.gov

SUPPLEMENTARY INFORMATION: The seashore was established in 1965 and is composed of more than 41,320 acres including 37-mile Assateague Island in Maryland and Virginia and the surrounding marine and estuarine waters up to one-half mile from the island's shore. Within the seashore boundary are Assateague State Park (owned by the state of Maryland and managed by the Maryland Department of Natural Resources) and Chincoteague National Wildlife Refuge (managed by the U.S. Fish and Wildlife Service). The NPS owns 8,983 acres within the seashore boundary, including land on Assateague Island in Maryland, the Assateague Beach U.S. Coast Guard Station in Virginia, and its mainland Maryland headquarters complex and visitor center. The states of Maryland and Virginia own the submerged lands within the seashore boundary, with ownership extending to mean high water in Maryland and mean low water in Virginia.

Pursuant to the National Environmental Policy Act of 1969 (42 U.S.C. 4321 et seq.), the NPS released a Draft GMP/EIS on January 29, 2016 for a 90-day public review period. The Draft GMP/EIS evaluated four alternatives for future seashore management.

Comments received on the Draft GMP/EIS resulted in minor changes to the text but did not significantly alter the alternatives or the impact analysis; thus, the NPS has prepared an Abbreviated Final GMP/EIS. The Abbreviated Final GMP/EIS discusses the public and agency comments received on the Draft GMP/EIS and provides NPS responses. The Abbreviated Final GMP/EIS contains errata sheets that show factual corrections to the text of the Draft GMP/EIS or where the text has been revised to reflect minor additions or changes suggested by commenters.

As in the Draft GMP/EIS, the Abbreviated Final GMP/EIS identifies the NPS preferred alternative as alternative 3—sustainable recreation and climate change adaptation.

NPS decision makers considered the information collected during scoping, the results of the impact analysis, and the seashore's purpose and significance. Findings supported selection of alternative 3 as the NPS preferred alternative because it would provide the highest degree of enhanced public use and enjoyment of the seashore, would provide the highest degree of protection to the seashore's fundamental and other important resources and values, would offer the greatest potential for enhanced coastal resiliency, and would support the most effective organizational management for the seashore.

Dated: May 3, 2017.
Joshua Laird,
Acting Regional Director, Northeast Region, National Park Service.

Editorial Note: This document was received by the Office of the Federal Register on August 21, 2017.

[FR Doc. 2017-18009 Filed 8-24-17; 8:45 am]

BILLING CODE 4312-52-P